NUCLEAR REGULATORY COMMISSION

[Docket No. 50-255]

Nuclear Management Company, LLC; Notice of Receipt and Availability of Application for Renewal of Palisades Nuclear Plant; Facility Operating License No. DPR-20 for an Additional 20-Year Period

The U.S. Nuclear Regulatory Commission (NRC or Commission) has received an application, dated March 22, 2005, from Nuclear Management Company, LLC, filed pursuant to Section 104b (DPR-20) of the Atomic Energy Act of 1954, as amended, and 10 CFR Part 54, to renew the operating license for the Palisades Nuclear Plant. Renewal of an operating license authorizes the applicant to operate the facility for an additional 20-year period beyond the period specified in the current operating license. The current operating license for the Palisades Nuclear Plant (DPR-20) expires on March 24, 2011. The Palisades Nuclear Plant is a Pressure Water Reactor designed by Combustion Engineering. The unit is located near Covert, MI. The acceptability of the tendered application for docketing, and other matters including an opportunity to request a hearing, will be the subject of subsequent Federal Register notices.

Copies of the application are available for public inspection at the Commission's Public Document Room (PDR), located at One White Flint North, 11555 Rockville Pike (first floor), Rockville, Maryland, 20582 or electronically from the NRC's Agencywide Documents Access and Management System (ADAMS) Public Electronic Reading Room under accession number ML050940429. The ADAMS Public Electronic Reading Room is accessible from the NRC's Web site at http://www.nrc.gov/reading-rm/adams.html. In addition, the application is available at http://www.nrc.gov/reactors/operating/licensing/renewal/applications.html, on the NRC's Web site, while the application is under review. Persons who do not have access to ADAMS or who encounter problems in accessing the documents located in ADAMS should contact the NRC's PDR Reference staff by telephone at 1-800-397-4209, or 301-415-4737, or by email to pdr@nrc.gov.

A copy of the license renewal application for the Palisades Nuclear Plant, is also available to local residents near the Palisades Nuclear Plant, at the South Haven Memorial Library, 314 Broadway, South Haven, MI 49090.

Dated at Rockville, Maryland, this 6th day of April, 2005.
For the Nuclear Regulatory Commission.
Pao-Tsin Kuo,
Program Director, License Renewal and Environmental Impacts Program, Division of Regulatory Improvement Programs, Office of Nuclear Reactor Regulation.

[FR Doc. E5-1676 Filed 4-11-05; 8:45 am]

BILLING CODE 7590-01-P